SECURITIES AND EXCHANGE COMMISSION

[Release Nos. 33-8882; 34-57162; File No. 265-24]

Advisory Committee on Improvements to Financial Reporting

AGENCY: Securities and Exchange Commission.

ACTION: Notice of Meeting of SEC Advisory Committee on Improvements to Financial Reporting.

SUMMARY: The Securities and Exchange Commission Advisory Committee on Improvements to Financial Reporting is providing notice that it will hold a public telephone conference meeting on Monday, February 11, 2008 beginning at 2 pm. Members of the public may take part in the meeting by listening to the webcast accessible on the Commission's Web site at http://www.sec.gov or by calling telephone number (888) 830-6260 and using code number 763960. Persons needing special accommodations to take part because of a disability should notify a contact person listed below.

The agenda for the meeting includes: (1) Discussion and deliberation of a draft progress report with developed proposals, conceptual approaches and currently identified future considerations based on the Committee's deliberations of the Draft Decision Memorandum presented at its January 11, 2008 meeting in the areas of substantive complexity, standard setting, audit process and compliance and delivery of financial information; (2) a vote on a proposal to publish the Committee's draft progress report in final form to the Commission and for public feedback; and (3) a discussion of next steps and planning for the next meeting. The public is invited to submit written statements for the meeting.

DATES: Written statements should be received on or before February 4, 2008.

ADDRESSES: Written statements may be submitted by any of the following methods:

Electronic Comments

• Use the Commission's Internet submission form (http://www.sec.gov/rules/other.shtml); or

• Send an e-mail to rule-comments@sec.gov. Please include File Number 265-24 on the subject line.

Paper Comments

• Send paper statements in triplicate to Nancy M. Morris, Federal Advisory Committee Management Officer, Securities and Exchange Commission, 100 F Street, NE., Washington, DC 20549-1090.

All submissions should refer to File No. 265-24. This file number should be included on the subject line if e-mail is used. To help us process and review your statements more efficiently, please use only one method. The Commission staff will post all statements on the Advisory Committee's Web site (http://www.sec.gov/about/offices/oca/acifr.shtml). Statements also will be available for public inspection and copying in the Commission's Public Reference Room, 100 F Street, NE., Washington, DC 20549, on official business days between the hours of 10 a.m. and 3 p.m. All statements received will be posted without change; we do not edit personal identifying information from submissions. You should submit only information that you wish to make available publicly.

FOR FURTHER INFORMATION CONTACT: James L. Kroeker, Deputy Chief Accountant, or Shelly C. Luisi, Senior Associate Chief Accountant, at (202) 551-5300, Office of the Chief Accountant, Securities and Exchange Commission, 100 F Street, NE., Washington, DC 20549-6561.

SUPPLEMENTARY INFORMATION: In accordance with Section 10(a) of the Federal Advisory Committee Act, 5 U.S.C. App. 1, section 10(a), James L. Kroeker, Designated Federal Officer of the Committee, has approved publication of this notice.

Dated: January 16, 2008.
Nancy M. Morris,
Committee Management Officer.

[FR Doc. E8-1053 Filed 1-22-08; 8:45 am]

BILLING CODE 8011-01-P